DEPARTMENT OF THE INTERIOR

Bureau of Land Management

[20X.LLMTC03200.L13200000.EL0000.LVEME17CE560 MO #4500145975]

Notice of Availability, Notice of a Public Hearing, and Request for Comment on Environmental Assessment, Maximum Economic Recovery, and Fair Market Value for BNI Coal LTD's Lease-by-Application NDM-105513, Oliver County, ND

AGENCY: Bureau of Land Management, Interior.

ACTION: Notice of availability and public hearing.

SUMMARY: The Bureau of Land Management (BLM), North Dakota Field Office (NDFO) is publishing this notice to announce that an Environmental Assessment (EA) for BNI Coal Ltd.'s (BNI) Federal Coal Lease-by-Application (LBA), serial number NDM-105513, is available for public review and comment. The BLM is also announcing that it will hold a public hearing to receive comments on the EA, Fair Market Value (FMV), and Maximum Economic Recovery (MER) of the coal resources contained in the proposed BNI LBA lease tracts.

DATES: The public hearing will be held from 3:00 p.m. to 5:00 p.m. CDT on Thursday, September 24, 2020. Written comments should be submitted and received by the NDFO no later than Thursday, October 8, 2020.

ADDRESSES: The public hearing will be held at the Betty Hagel Memorial Civic Center, 312 Lincoln Ave., Center, ND 58530. Should pandemic conditions in North Dakota change to prevent or further restrict an in-person meeting, the public hearing may be held as a teleconference. Updates would be provided through eplanning and a press release.

In addition, copies of the EA are available at http://ow.ly/f1y650ASuiG and at the NDFO. You may submit comments related to the BNI's EA, FMV and MER by any of the following methods:

Electronic: http://ow.ly/f1y650ASuiG; or by mail at: Bureau of Land Management North Dakota Field Office, Attention: Carissa Shilling, 99 23rd Avenue West, Suite A, Dickinson, ND 58601.

FOR FURTHER INFORMATION CONTACT: Carissa Shilling, Geologist; telephone: 406-233-3163; email: cshilling@blm.gov; or at the address provided in the ADDRESSES section. Persons who use a telecommunications device for the deaf (TDD) may call the Federal Relay Service at 1-800-877-8339 to contact Ms. Shilling during normal business hours. The Service is available 24 hours a day, 7 days a week, to leave a message or question. You will receive a reply during normal business hours.

SUPPLEMENTARY INFORMATION: On February 14, 2017, BNI submitted an application to lease several Federal coal lease tracts comprising 630 acres, located in Oliver County, North Dakota. The BLM developed the issue-based EA which analyzed and disclosed potential direct, indirect, and cumulative impacts of leasing and subsequent mining of the proposed lease tracts. The tracts are located at the Center Mine and contain about 6.97 million tons of in-place Federal coal resources. The tracts underlie private surface and are described as follows:

Fifth Principal Meridian, North Dakota

T. 141 N., R. 83 W.,

Sec. 8, S½ NE¼NE¼.

T. 141 N., R. 84 W.,

Sec. 14, E½NE¼, S½SW, and SE¼.

T. 142 N., R. 84 W.,

Sec. 20, NE¼, NW¼SW¼, NW¼NE¼SE¼, and E½SW¼.

The areas described aggregate 630.00 acres.

Through this notice, the BLM is inviting the public to provide comments regarding the potential environmental impacts related to the proposed action, and to submit comments on the FMV and the MER for the proposed LBA tract. All public comments, whether written or oral, will receive consideration prior to the BLM's decision regarding the leasing of the Federal coal contained in the tracts.

Public comments on the EA should address the potential environmental impacts of the proposed action. Public comments on the FMV and MER for the proposed lease tracts may address, but do not necessarily have to be limited to, the following:

1. The quantity and quality of the Federal coal resource;

2. The mining method to be employed to obtain the MER of the coal resource, including the name of the coal bed(s) to be mined, timing and rate of production, restriction of mining, and the inclusion of the lease tracts into the existing mining operation;

3. The price that the mined coal would bring when sold;

4. Costs, including mining and reclamation, and the anticipated timing of production;

5. The percentage rate at which anticipated income streams should be discounted, either with inflation, or in the absence of inflation, in which case the anticipated rate of inflation should be given;

6. Depreciation, depletion, amortization, and other tax accounting factors;

7. The value of privately held mineral or surface estate in the Center Mine area.

Any proprietary information or data that you submit to the BLM must be marked as confidential and mailed directly to the BLM NDFO, Attention: Carissa Shilling (see ADDRESSES earlier) to assure the data will be treated in accordance with the applicable laws and regulations governing the confidentiality of such information or data. A copy of the comments submitted by the public on the EA, FMV, and MER for the tracts, except those portions identified as proprietary and that meet one of the exemptions in the Freedom of Information Act, will be available for public inspection at the BLM NDFO (see ADDRESSES earlier), during regular business hours (8:00 a.m.-4:30 p.m.), Monday through Friday.

Before including your address, phone number, email address, or other personal identifying information in your comment, you should be aware that your entire comment—including your personal identifying information—may be made publicly available at any time. While you can ask us in your comment to withhold your personal identifying information from public review, the BLM cannot guarantee that we will be able to do so.

Authority: 40 CFR 1506.6, 43 CFR 3425.3 and 3425.4

John Mehlhoff,
Montana/Dakotas State Director.

[FR Doc. 2020-19800 Filed 9-4-20; 8:45 am]

BILLING CODE 4310-DN-P